DEPARTMENT OF JUSTICE

Notice of Lodging of Consent Decree Under the Comprehensive Environmental Response, Compensation and Liability Act

Notice is hereby given that on December 9, 2005, a proposed Consent Decree in United States v. Holly Corporation, No. 1:05-cv-00503 (LMB), was lodged with the United States District Court for the District of Idaho.

This Consent Decree resolves claims of the United States against Holly Corporation (“Holly”) under Section 107(a) of the Comprehensive Environmental Response, Compensation, and Liability Act (“CERCLA”), 42 U.S.C. 9607(a), as amended, for recovery of response costs incurred in connection with removal actions at the Cinnabar Mine Site (“Site”), located near Yellow Pine, Idaho, in the Payette National Forest. The Consent Decree requires Holly to pay the United States a total of $450,000 in past response costs.

The Department of Justice will receive written comments on the proposed Consent Decree for a period of thirty (30) days from the date of publication of this notice. Comments should be addressed to the Assistant Attorney General, Environment and Natural Resources Division, P.O. Box 7611, U.S. Department of Justice, Washington, DC 20044-7611, and should refer to United States v. Holly Corporation, D.J. Ref. #90-11-3-07536.

The Consent Decree may be examined at the Office of the United States Attorney for District of Idaho, at 800 Park Blvd., Suite 600, Boise, ID 83712-9903, and at the offices of U.S. E.P.A. Region 10, 1200 Sixth Avenue, Seattle, WA 98101. During the public comment period, the Consent Decree may also be examined on the following Department of Justice Web site, http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. 202-514-0097, phone confirmation number 202-514-1547. When requesting a copy, please enclose a check to cover the twenty-five cents per page reproduction costs payable to the “U.S. Treasury” in the amount of $3.75, and please reference United States v. Holly Corporation, D.J. Ref. #90-11-3-07536.

Robert E. Maher, Jr.,
Assistant Section Chief, Environmental Enforcement Section, Environment and Natural Resources Division.

[FR Doc. 05-24326 Filed 12-21-05; 8:45 am]

BILLING CODE 4410-15-M